ENVIRONMENTAL PROTECTION AGENCY

[FRL-8277-4]

Science Advisory Board Staff Office; Notification of a Public Meeting of the Science Advisory Board

AGENCY: Environmental Protection Agency (EPA).

ACTION: Notice.

SUMMARY: The EPA Science Advisory Board (SAB) Staff Office announces a public face-to-face meeting of the chartered SAB to: (1) Discuss EPA's strategic research priorities for the years 2008 to 2012; (2) conduct a quality review of the Draft SAB Report on the Office of Research and Development's (ORD) Sustainability Research Strategy and the Science and Technology for Sustainability Multiyear Plan; and (3) continue planning for upcoming SAB meetings.

DATES: The meeting dates are Thursday, February 22, 2007, from 8:30 a.m. to 5:30 p.m. through Friday, February 23, 2007, from 8:30 a.m. to 3 p.m. (Eastern Time).

ADDRESSES: The meeting will be held in Suite 3700 of the U.S. Environmental Protection Agency Science Advisory Board Conference Center; 1025 F Street, NW., Washington, DC 20004, phone (202) 343-9999.

FOR FURTHER INFORMATION CONTACT: Members of the public who wish to obtain further information about this meeting may contact Mr. Thomas O. Miller, Designated Federal Officer (DFO) by mail at: Science Advisory Board Staff Office, (1400F), U.S. EPA, 1200 Pennsylvania Avenue, NW., Washington, DC 20460; telephone at (202) 343-9982; fax at (202) 233-0643; or e-mail at: miller.tom@epa.gov. The SAB mailing address is: U.S. EPA, Science Advisory Board (1400F), 1200 Pennsylvania Avenue, NW., Washington, DC 20460. General information about the SAB, as well as any updates concerning the meeting announced in this notice, may be found on the SAB Web site at: http://www.epa.gov/sab.

SUPPLEMENTARY INFORMATION: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The SAB will comply with the provisions of FACA and all appropriate SAB Staff Office procedural policies.

Background: The purpose of this meeting is to allow the SAB to discuss future research priorities for achieving EPA's mission to protect human health and the environment with Agency representatives. This will include discussions of the FY 2008 research budget. The SAB will also conduct a quality review of one draft SAB Committee report, Draft SAB Report on the Office of Research and Development's (ORD) Sustainability Research Strategy and the Science and Technology for Sustainability Multiyear Plan and discuss its plans for future SAB meetings during Fiscal Year 2007.

Availability of Meeting Materials: Materials in support of this meeting will be placed on the SAB Web site at http://www.epa.gov/sab in advance of this meeting.

Procedures for Providing Public Input: Interested members of the public may submit relevant written or oral information for the SAB to consider during the advisory process.

Oral Statements: In general, individuals or groups requesting an oral presentation at a public meeting will be limited to five minutes per speaker, with no more than one hour for all speakers. Interested parties should contact Mr. Miller, DFO, at the contact information provided above, by February 14, 2007, to be placed on the public speaker list for the February 22-23, 2007 meeting.

Written Statements: Written statements should be received in the SAB Staff Office by February 14, 2007, so that the information may be made available to the SAB for their consideration prior to this meeting. Written statements should be supplied to the DFO in the following formats: One hard copy with original signature, and one electronic copy via e-mail to miller.tom@epa.gov (acceptable file format: Adobe Acrobat PDF, WordPerfect, MS Word, MS PowerPoint, or Rich Text files in IBM-PC/Windows 98/2000/XP format).

Meeting Accommodations: For information on access or services for individuals with disabilities, please contact Mr. Thomas Miller at (202) 343-9982, or via e-mail at miller.tom@epa.gov. To request accommodation of a disability, please contact Mr. Miller, preferably at least 10 days prior to the meeting, to give EPA as much time as possible to process your request.

Dated: February 5, 2007.
Anthony F. Maciorowski,
Deputy Director, Science Advisory Board Staff Office.

[FR Doc. E7-2178 Filed 2-8-07; 8:45 am]

BILLING CODE 6560-50-P